DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by July 5, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

Applicant: Daryl Lyn Sittig, Crystal Lake, IL, PRT-056299.

The applicant requests a permit to import the sport-hunted trophy of one male bontebok (Damaliscus pygargus dorcas) culled from a captive herd maintained under the management program of the Republic of South Africa for the purpose of enhancement of the survival of the species.

Applicant: Darwin W. Lamb, Cedar City, UT, PRT-057342.

The applicant requests a permit to import the sport-hunted trophy of one male bontebok (Damaliscus pygargus dorcas) culled from a captive herd maintained under the management program of the Republic of South Africa for the purpose of enhancement of the survival of the species.

Applicant: Brian Casey Harrison, Kennedale, TX, PRT-057364.

The applicant requests a permit to import the sport-hunted trophy of one male bontebok (Damaliscus pygargus dorcas) culled from a captive herd maintained under the management program of the Republic of South Africa for the purpose of enhancement of the survival of the species.

Applicant: Paul B. Wilson, Macungie, PA, PRT-057341.

The applicant requests a permit to import the sport-hunted trophy of one male bontebok (Damaliscus pygargus dorcas) culled from a captive herd maintained under the management program of the Republic of South Africa for the purpose of enhancement of the survival of the species.

Applicant: Montana Rocosa Ranch, Utopia, TX, PRT-056130.

The applicant requests a permit to authorize interstate and foreign commerce, export and cull of excess animals for the following species: Arabian oryx (Oryx leucoryx), swamp deer (Cervus duvauceli), Eld's deer (Cervus eldii) and red lechwe (Kobus leche) from their captive-raised herd for the purpose of enhancement of the survival of the species. This notification covers activities conducted by the applicant over a three year period. Permittee must annually apply for renewal.

Applicant: Zoological Society of San Diego/San Diego Zoo, San Diego, CA, PRT-056991 and 057398.

The applicant requests a permit to export (PRT-056991) 2.6 captive-born California condors (Gymnogyps californianus) for the purpose of enhancement of the survival of the species through reintroduction to Sierra San Pedro Martir, Baja California, Mexico. The second application is for the possible re-import (PRT-057398) of same animals to Zoological Society of San Diego if the re-import is found to be essential due to emergencies such as a medical condition or behavioral problems.

Marine Mammals

The public is invited to comment on the following application(s) for a permit to conduct certain activities with marine mammals. The application(s) was submitted to satisfy requirements of the Marine Mammal Protection Act of 1972, as amended (16 U.S.C. 1361 et seq.) and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: Lanny S. Rominger, Albuquerque, NM, PRT-057343.

The applicant requests a permit to import a polar bear (Ursus maritimus) sport hunted from the Lancaster Sound polar bear population in Canada for personal use.

Applicant: Garry M. Betrus, Fenton, MI, PRT-057437.

The applicant requests a permit to import a polar bear (Ursus maritimus) sport hunted from the Lancaster Sound polar bear population in Canada for personal use.

The U.S. Fish and Wildlife Service has information collection approval from OMB through March 31, 2004, OMB Control Number 1018-0093. Federal Agencies may not conduct or sponsor and a person is not required to respond to a collection of information unless it displays a current valid OMB control number.

Dated: May 23, 2002.
Anna Barry,
Senior Permit Biologist, Branch of Permits, Division of Management Authority.

[FR Doc. 02-13929 Filed 6-3-02; 8:45 am]

BILLING CODE 4310-55-P